ENVIRONMENTAL PROTECTION AGENCY

[OW-2004-0027; FRL-7879-8]

Agency Information Collection Activities; Submission to OMB for Review and Approval; Comment Response; Information Collection Request for Cooling Water Intake Structures—New Facility (Renewal), EPA ICR Number 1973.03, OMB Control Number 2040-0241

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on February 28, 2005. Under OMB regulations, the Agency may continue to conduct or sponsor the collection of information while this submission is pending at OMB. The ICR describes the nature of the information collection and its estimated burden and cost.

DATES: Additional comments may be submitted on or before April 1, 2005.

ADDRESSES: Submit your comments, referencing docket ID number OW-2004-0027, to (1) EPA online using EDOCKET (our preferred method), by e-mail to OW-Docket@epa.gov, or by mail to: EPA Docket Center, Environmental Protection Agency, Water Docket, Mail Code 4101T, 1200 Pennsylvania Ave. NW., Washington, DC 20460, and (2) OMB at: Office of Information and Regulatory Affairs, Office of Management and Budget (OMB), Attention: Desk Officer for EPA, 725 17th Street, NW., Washington, DC 20503.

FOR FURTHER INFORMATION CONTACT: Jack Faulk, Office of Wastewater Management, Mail Code 4203M, Environmental Protection Agency, 1200 Pennsylvania Ave., NW., Washington, DC 20460; telephone number: 202-564-0768; fax number: 202-564-6431; e-mail address: faulk.jack@epa.gov.

SUPPLEMENTARY INFORMATION: EPA has submitted the following ICR to OMB for review and approval according to the procedures prescribed in 5 CFR 1320.12. On August 30, 2004 (69 FR 52883), EPA sought comments on this ICR pursuant to 5 CFR 1320.8(d). EPA received no comment.

EPA has established a public docket for this ICR under Docket ID No. OW-2004-0027, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Cooling Water Intake Structures—New Facility (Renewal)

Abstract: The section 316(b) New Facility Regulation requires the collection of information from new facilities that use a cooling water intake structure (CWIS). Entities affected by this ICR are new power producing facilities (both utility and nonutility) and new manufacturing facilities that have large cooling water requirements. Four categories of manufacturing facilities tend to have large amounts of cooling water: paper and allied products, chemical and allied products, petroleum and coal products, and primary metals. Section 316(b) of the Clean Water Act (CWA) requires that any standard established under section 301 or 306 of the CWA and applicable to a point source must require that the location, design, construction and capacity of CWISs at that facility reflect the best technology available (BTA) for minimizing adverse environmental impact. Such impact occurs as a result of impingement (where fish and other aquatic life are trapped on technologies at the entrance to cooling water intake structures) and entrainment (where aquatic organisms, eggs, and larvae are taken into the cooling system, passed through the heat exchanger, and then pumped back out with the discharge from the facility). These requirements seek to minimize the adverse environmental impact associated with the use of CWISs.

An agency may not conduct or sponsor, and a person is not required to respond to, a collection of information unless it displays a currently valid OMB control number. The OMB control numbers for EPA's regulations in 40 CFR are listed in 40 CFR part 9 and are identified on the form and/or instrument, if applicable.

Burden Statement: The annual average reporting and record keeping burden for the collection of information by facilities with a cooling water intake structure is estimated to be 2,107 hours per respondent (i.e., an annual average of 71,645 hours of burden divided among an anticipated annual average of 34 facilities). The Director reporting and record keeping burden for the review, oversight, and administration of these requirements is estimated to average 132 hours per respondent (i.e., an annual average of 4,623 hours of burden divided among an anticipated 35 States on average per year). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: New power producing facilities and new manufacturing facilities that have large cooling water requirements.

Estimated Number of Respondents: 69.

Frequency of Response: One-time application and annual reports thereafter.

Estimated Total Annual Hour Burden: 76,268 hours.

Estimated Total Annual Cost: $5,715,579 includes $789,478 annualized O&M costs, $1,152,448 Capital expenses, and $3,773,653 in labor costs.

Changes in the Estimates: There is an increase of 35,892 hours in the total estimated annual burden and an increase of $176,000 from the total estimated cost currently identified in the OMB Inventory of Approved ICR Burdens. The burden is based on the addition of the newly built facilities, as well as the continued performance of annual activities by facilities that received their permit during the first ICR approval period. The increase of hours and cost is attributed to the permit re-issuance activities that were not in the original ICR. These activities were not included in the original ICR because none of the new facilities required permit re-issuance during the initial approval period.

Dated: February 20, 2005.
Oscar Morales,
Director, Collection Strategies Division.

[FR Doc. 05-3999 Filed 3-1-05; 8:45 am]

BILLING CODE 6560-50-P